EQUAL EMPLOYMENT OPPORTUNITY COMMISSION

Sunshine Act Meeting

Federal Register Citation of Previous Announcement: 70 FR 74319, Thursday, December 15, 2005.

Previously Announced Time and Date of Meeting: Wednesday, December 21, 2005, 9 a.m. (eastern time).

Change in the Meeting: The meeting has been cancelled.

Contact Person for more Information: Stephen Llewellyn, Acting Executive Officer on (202) 633-4070.

This Notice issued December 20, 2005.
Stephen Llewellyn,
Acting Executive Officer, Executive Secretariat.

[FR Doc. 05-24461 Filed 12-21-05; 11:56 am]

BILLING CODE 6570-06-M